Proclamation 8594 of October 29, 2010

National Hospice Month, 2010

By the President of the United States of America

A Proclamation

During National Hospice Month, we recognize the dignity hospice care can provide to patients who need it most, and the professionals, volunteers, and family members who bring peace to individuals in their final days.

Hospice care gives medical services, emotional support, and spiritual resources to people facing life-limiting illnesses. It can also help families and caregivers manage the details and emotional challenges of caring for a dying loved one. The decision to place someone into a hospice program can be difficult, but Americans can have peace of mind knowing the doctors and professionals involved with these services are trained to administer high-quality and comprehensive care for terminally ill individuals. As many of our Nation’s veterans age and cope with illness, hospice and palliative care can also provide tailored support to meet the needs of these heroes.

The Affordable Care Act signed into law this year protects and expands hospice services covered under Federal health care programs. Prior to its enactment, the prohibition on concurrent care for Federal health care programs meant patients could not receive hospice care before first discontinuing treatments to cure their disease. The Affordable Care Act permanently eliminates this prohibition for children enrolled in Medicaid and the Children’s Health Insurance Program, and creates demonstration projects to test how the elimination of the concurrent care prohibition would impact Medicare. As a result, fewer children, seniors, and families will have to make the heart-rending choice between coverage that fights an illness and coverage that provides needed comfort.

All Americans should take comfort in the important work of hospice care, which enables individuals to carry on their lives, in spite of a terminal illness. During this month, let us recognize those who allow the terminally ill to receive comfortable and dignified care.

NOW, THEREFORE, I, BARACK OBAMA, President of the United States of America, by virtue of the authority vested in me by the Constitution and the laws of the United States, do hereby proclaim November 2010 as National Hospice Month. I encourage citizens, medical institutions, government and social service agencies, businesses, nonprofit organizations, and other interested groups to join in activities that promote awareness of the important role of hospice care.

IN WITNESS WHEREOF, I have hereunto set my hand this twenty-ninth day of October, in the year of our Lord two thousand ten, and of the Independence of the United States of America the two hundred and thirty-fifth.

[FR Doc. 2010-28082

Filed 11-3-10; 8:45 am]

Billing code 3195-W1-P